DEPARTMENT OF TRANSPORTATION

Federal Highway Administration

Buy America Waiver Notification

AGENCY: Federal Highway Administration (FHWA), DOT.

ACTION: Notice.

SUMMARY: This notice is to rescind the FHWA's Buy America waiver for the use of non-domestic steel pipe; A53 Grade B, 26″ OD, 0.375″ wall for the construction of a Recovery Act project on SR 60, Section A40, in Allegheny County, Pennsylvania.

DATES: The effective date of the rescission is December 16, 2010.

FOR FURTHER INFORMATION CONTACT: For questions about this notice, please contact Mr. Gerald Yakowenko, FHWA Office of Program Administration, (202) 366-1562, or via e-mail at gerald.yakowenko@dot.gov. For legal questions, please contact Mr. Michael Harkins, FHWA Office of the Chief Counsel, (202) 366-4928, or via e-mail at michael.harkins@dot.gov. Office hours for the FHWA are from 8:00 a.m. to 4:30 p.m., est., Monday through Friday, except Federal holidays.

SUPPLEMENTARY INFORMATION:

Electronic Access

An electronic copy of this document may be downloaded from the Federal Register's home page at: http://www.archives.gov and the Government Printing Office's database at: http://www.access.gpo.gov/nara.

Background

The FHWA's Buy America policy in 23 CFR 635.410 requires a domestic manufacturing process for any steel or iron products (including the application of protective coatings) that are permanently incorporated in a Federal-aid construction project. The regulation also provides for a waiver of the Buy America requirements when the application would be inconsistent with the public interest or when satisfactory quality domestic steel and iron products are not sufficiently available. This notice is to rescind the Buy America waiver that was processed and published in the Federal Register on October 19, 2010, at 75 FR 64394, for the use of non-domestic steel pipe; A53 Grade B, 26″ OD, 0.375″ wall for a portion of sign support structure no. S-28760 proposed for Recovery Act project on SR 60 in Alleghany County, PA.

During the notice and comment period leading up to the publication of the October 19 notice, the Pennsylvania Department of Transportation (PennDOT) considered the use of steel pipe API 5L, Grade B, PSL 2 as an alternate equivalent product to steel pipe A53 Grade B, 26″ OD, 0.375″ wall. However, it appeared that the steel slab to be used in the production of the pipe was not available domestically. During the 15-day comment period following the publication of the October 19 notice, the FHWA received a comment that steel pipe API 5L, including the steel slab to be used in production, could be produced domestically. After verifying that PennDOT is willing to approve the use of API 5L, Grade B, PSL 2 as an alternate to steel pipe A53 Grade B, 26″ OD, 0.375″ wall and verifying that API 5L, Grade B, PSL 2 can be produced domestically, the FHWA has determined that a Buy America waiver for steel pipe A53 Grade B, 26″ OD, 0.375″ wall is no longer necessary. Therefore, the Buy America waiver issued on October 19 in the Federal Register (75 FR 64394) for steel pipe A53 Grade B, 26″ OD, 0.375″ wall is rescinded.

The FHWA invites public comment on this finding for an additional 15 days following the effective date of the finding. Comments may be submitted to the FHWA's Web site via the link provided to the Pennsylvania waiver page noted above http://www.fhwa.dot.gov/construction/contracts/waivers.cfm?id=51.

Authority: 23 U.S.C. 313; Pub. L. 110-161, 23 CFR 635.410).

Issued on: December 7, 2010.
Victor M. Mendez,
Federal Highway Administrator.

[FR Doc. 2010-31421 Filed 12-14-10; 8:45 am]

BILLING CODE 4910-22-P